DEPARTMENT OF DEFENSE

Department of the Air Force

32 CFR Parts 811a and 813

RIN 0701-AA63

Visual Information Documentation Program

AGENCY: Department of the Air Force, DoD.

ACTION: Final rule.

SUMMARY: The Department of the Air Force is revising our rules on the Visual Information Documentation Program of the Code of Federal Regulations (CFRs) to reflect current polices. These rules implement Air Force Instruction (AFI) 33-117, Visual Information Management, and apply to all Air Force activities.

EFFECTIVE DATE: December 1, 2000.

ADDRESSES: Submit comments to Mr. Raymond Dabney, HQ AFCIC/ITSM, 1250 Air Force Pentagon, Washington, DC 20330-1250, 703-588-6136.

FOR FURTHER INFORMATION CONTACT: Mr. Raymond Dabney, HQ AFCIC/ITSM, 703-588-6136.

SUPPLEMENTARY INFORMATION: The Department of the Air Force is redesignating 32 CFR part 811a as 32 CFR part 813 and revising it to reflect current policies. This part implements AFI 33-117, Visual Information Management, and applies to all Air Force activities. This part was published as a proposed rule in the Federal Register on January 5, 2000 (65 FR 419, FR Doc. 00-235). Comments were solicited for 60 days ending on March 6, 2000. No comments were received.

List of Subjects in 32 CFR Parts 811a and 813

Archives and records, Motion pictures.

PART 811a—[REDESIGNATED AS PART 813]

For the reasons set forth in the preamble, the Department of the Air Force is redesignating 32 CFR part 811a as 32 CFR part 813 and revising it to read as follows:

PART 813—VISUAL INFORMATION DOCUMENTATION PROGRAM

Sec.
813.1 Purpose of the visual information documentation (VIDOC) program.
813.2 Sources of VIDOC.
813.3 Responsibilities.
813.4 Combat camera operations.
813.5 Shipping or transmitting visual information documentation images.
813.6 Planning and requesting combat documentation.
813.7 Readiness reporting.

Authority: 10 U.S.C. 8013.

§ 813.1 Purpose of the visual information documentation (VIDOC) program.

Using various visual and audio media, the Air Force VIDOC program records important Air Force operations, historical events, and activities for use as decision making and communicative tools. VIDOC of Air Force combat operations is called COMCAM documentation. Air Force publications are available at NTIS, 5285 Port Royal Road, Springfield, VA 22161 or online at http://www.afpubs.hq.af.mil. DoD publications are available at http://www.defenselink.mil/pubs.

§ 813.2 Sources of VIDOC.

Primary sources of VIDOC materials include:

(a) HQ AMC active and reserve combat camera (COMCAM) forces, both ground and aerial, whose primary goal is still and motion media documentation of Air Force and air component combat and combat support operations, and related peacetime activities such as humanitarian actions, exercises, readiness tests, and operations.

(b) Visual information forces with combat documentation capabilities from other commands: HQs ACC, AETC, AFRES, and AFSPACECOM.

(c) Communications squadron base visual information centers (BVISCs).

(d) Air Digital Recorder (ADR) images from airborne imagery systems, such as heads up displays, radar scopes, and images from electro-optical sensors carried aboard aircraft and weapons systems.

(e) Photography of Air Force Research, Development, Test & Evaluation (RDT&E) activities, including high speed still and motion media optical instrumentation.

§ 813.3 Responsibilities.

(a) HQ AFCIC/ITSM:

(1) Sets Air Force VIDOC policy.

(2) Oversees United States Air Force (USAF) COMCAM programs and combat readiness.

(3) Makes sure Air Force participates in joint actions by coordinating with the Office of the Secretary of Defense staff, Joint Chiefs of Staff (JCS), executive departments, and other branches of the United States Government.

(4) Approves use of Air Force COMCAM forces in non-Air Force activities.

(b) Air components:

(1) Manage air component COMCAM and visual information support within their areas of responsibility. Documents significant events and operations for theater and national-level use.

(2) Sets requirements for COMCAM and VI support. Includes requirements in operations plans (OPLAN) force lists, concept plans (CONPLAN), operations orders (OPORD), and similar documents. See Air Force Manual (AFMAN) 10-401, Operation Plan and Concept Plan Development and Implementation.

(3) Coordinate with MAJCOM VI managers to plan and source VIDOC forces for war, contingencies, and exercises.

(4) Provide input (VI and COMCAM requirements) to HQ AMC/SCMV, 203 West Losey Street, Room 3180, Scott AFB, IL 62225-5223, as required to develop the annual VI Exercise Support Plan. Include requirements to exercise VI forces to refine operational procedures and meet defined objectives.

(c) HQ AMC:

(1) Provides primary Air Force ADR theater support to the air component commanders.

(2) Maintains a deployable theater support Unified Transportation Command (UTC) to manage ADR requirements above the aviation wing level. This includes the gathering, editing, copying, and distribution of ADR images from combat aviation squadrons for operational analysis, bomb damage assessment, collateral intelligence, training, historical, public affairs, and other needs.

(3) Sets combat training standards and develops programs for all Air Force COMCAM personnel (includes both formal classroom and field readiness training).

(4) Coordinates and meets COMCAM needs in war, operations, and concept plans.

(5) Provides the Air Force's primary COMCAM capability and assists air component and joint commands with deliberate and crisis action planning for USAF's COMCAM assets.

(6) Provides component and theater commands COMCAM planning assistance and expertise for contingencies, humanitarian actions, exercises, and combat operations.

(7) Acts as manpower and equipment force packaging (MEFPAK) manager for COMCAM UTCs.

(8) Funds HQ AMC COMCAM personnel and equipment for contingency or wartime deployments. (The requester funds temporary duty and supply costs for planned events, such as non-JCS exercises and competitions.)

(9) Develops and monitors the annual Air Force-wide VI Exercise Support Plan for the Air Staff, with assistance from air components and supporting MAJCOMs. (Use criteria contained in § 813.4(e)(1) and provide equitable deployment opportunity for tasked commands' VI resources.)

(d) MAJCOM VI managers:

(1) Plan and set policy for documenting activities of operational, historical, public affairs, or other significance within their commands.

(2) Train and equip VIDOC forces to document war, contingencies, major events, Air Force and joint exercises, and weapons tests.

(3) Make sure COMCAM and BVISC forces meet their wartime tasking and identify and resolve deficiencies. Refer significant deficiencies and problems and proposed resolution to HQ AFCIC/ITSM.

(4) Allow documentation of significant Air Force activities and events, regardless of their sensitivity or classification. Protect materials as the supported command directs. Safeguard classified images or handle them according to Department of Defense (DoD) Directive 5200.1, DoD Information Security Program, June 7, 1982, with Changes 1 and 2, and AFI 31-401, Information Security Program Management. The authority in charge of the event or operation approves documentation distribution.

(5) Update UTC availability in MAJCOM information systems.

(6) Assist Air Force Operations Group, in identifying the command's capability to support COMCAM and VI requirements.

(7) Provide inputs to HQ AMC/SCMV for the annual VI Exercise Support Plan for JCS exercises.

(8) Make sure units that have deployable VI teams have Status of Resources and Training System (SORTS) reportable designed operational capability (DOC) statements that accurately reflect their mission and taskings.

(9) Develop and oversee measurements, such as operational readiness inspection criteria, to evaluate VI force readiness at DOC-tasked units.

§ 813.4 Combat camera operations.

(a) Air Force COMCAM forces document Air Force and air component activities.

(b) The supported unified command or joint task force commander, through the air component commander (when assigned), controls Air Force COMCAM forces in a joint environment. If an air component is assigned, the air component normally manages documentation of its operations. Air Force COMCAM and visual information support for joint operations will be proportionate to USAF combat force participation. In airlift operations, HQ AMC may be the supported command.

(c) During contingencies, exercises, and other operations, the Air Force provides its share of Unified Command headquarters COMCAM and visual information support forces for still photographic, motion media, graphics, and other VI services.

(d) COMCAM and VI forces take part in Air Force and joint exercises to test procedures and over-all readiness. COMCAM and VI forces also provide VI products to command, operations, public affairs, historical, and other significant customers.

(e) Sourcing COMCAM forces. See AFMAN 10-401 for specific procedures.

(1) When VI support teams are required, the lead wing's VI UTC deploys as primary, whenever possible. If lead wing VI support is not available, the providing command sources the requirement from other active or reserve component forces, or coordinates with other MAJCOMs for assistance.

(2) Air Force VI personnel who assist supported commands in determining COMCAM and VI requirements and sourcing consider the total USAF VI community as a resource. Planners consider employing USAF deployable VI support teams, augmentation combat documentation teams from AFSPACECOM, AETC, and ACC, as well as active and reserve COMCAM teams.

§ 813.5 Shipping or transmitting visual information documentation images.

(a) COMCAM images. Send COMCAM images to the DoD Joint Combat Camera Center, Room 5A518, Pentagon, Washington, DC 20330-3000, by the fastest means possible, following the approval procedures that on-scene and theater commanders set.

(b) Other non-COMCAM images. After use, send significant non-COMCAM images to the appropriate DoD media records center through the Air Force record center accessioning point.

(c) Identification of VIDOC materials. Clearly identify all VIDOC and COMCAM material with slates, captions, and cover stories.

§ 813.6 Planning and requesting combat documentation.

(a) Planned combat documentation. Air components identify documentation needs as early as possible in OPLANs, CONPLANs, and OPORDs and send copies of these plans to HQ AMC/SCMV, 203 West Losey Street, Room 3180, Scott AFB, IL 62225-5223. Include the contact for planning and support.

(b) Activity documentation. MAJCOMs may request that HQ AMC document their activities. Send information copies of requests to HQ AFCIC/ITSM, 1250 Air Force Pentagon, Washington, DC 20330-1250, and HQ AMC/SCMV. When a supporting component command operationally controls HQ AMC COMCAM units, other organizations that need support must coordinate requests with the supported command.

(c) Unplanned combat documentation. Send short notice requests to the supported operational commander as soon as possible, with information copies to HQ AFCIC/ITSM and HQ AMC/SCMO. Identify end product requirements, media formats, and deadlines.

(d) Humanitarian, disaster relief, and contingencies. Theater commanders normally task the supporting component through the Joint Operation Planning and Execution System, that in turn, requests support from HQ AMC. HQ USAF can directly task HQ AMC to document humanitarian, disaster relief, or contingency activities if it does not receive other tasking(s). In these cases, coordinate with the supported unified command.

§ 813.7 Readiness reporting.

All Air Force units assigned a DOC statement report readiness status through the SORTS process. See AFI 10-201, Status of Resources and Training System, for specific information and reporting criteria.

Janet A. Long,
Air Force Federal Register Liaison Officer.

[FR Doc. 00-27020 Filed 10-27-00; 8:45 am]

BILLING CODE 5001-05-U